DEPARTMENT OF THE INTERIOR

Fish and Wildlife Service

[FWS-R4-R-2012-N154; FXRS12650400000S3-123-FF04R02000]

Clarks River National Wildlife Refuge, KY; Final Comprehensive Conservation Plan/Land Protection Plan, and Finding of No Significant Impact for the Environmental Assessment

AGENCY: Fish and Wildlife Service, Interior.

ACTION: Notice of availability.

SUMMARY: We, the Fish and Wildlife Service (Service), announce the availability of the final comprehensive conservation plan (CCP)/land protection plan (LPP), and finding of no significant impact for the environmental assessment for Clarks River National Wildlife Refuge (NWR) in Graves, Marshall, and McCracken Counties, Kentucky. In the final CCP/LPP, we describe how we will manage this refuge for the next 15 years.

ADDRESSES: You may obtain a copy of the final CCP/LPP by writing to: Mr. Michael Johnson, Clarks River NWR, P.O. Box 89, Benton, KY 42025. Alternatively, you may download the document from our Internet Site, http://southeast.fws.gov/planning/, under “Final Documents.”

FOR FURTHER INFORMATION CONTACT: Mr. Michael Johnson at 270/527-5770 (telephone); 270/703-2963 (fax); michael_johnson@fws.gov (email).

SUPPLEMENTARY INFORMATION:

Introduction

With this notice, we finalize the CCP/LPP process for Clarks River NWR. We started the process through a notice in the Federal Register on August 29, 2008 (73 FR 50981). For more about the process, see that notice.

Clarks River NWR was established in 1997. The acquisition boundary currently approved by Congress is approximately 18,000 acres, of which 8,634 acres have been purchased. The lands are distributed among three counties as follows: Graves County (56 acres), Marshall County (5,970 acres), and McCracken County (2,608 acres). Lands are purchased on a willing-seller basis only.

Approximately 74 percent of the land associated with Clarks River NWR is forested, 22 percent is agricultural, and 2 percent is freshwater marsh/shrub swamp with managed impoundments, native warm-season grasses, and disturbed lands (roads, utility corridors, etc.), comprising less than 1 percent each. Refuge lands are managed for all plants and animals that occur in the area of western Kentucky, with a primary emphasis on migratory songbirds and waterfowl, game species, and listed species. Refuge goals and objectives are achieved through forest management, cooperative farming, habitat restoration, water management, and prescribed fire.

We announce our decision and the availability of the final CCP/LPP and FONSI for Clarks River NWR in accordance with the National Environmental Policy Act (NEPA) (40 CFR 1506.6(b)) requirements. We completed a thorough analysis of impacts on the human environment, which we included in the draft comprehensive conservation plan and environmental assessment (Draft CCP/EA).

The final CCP/LPP will guide us in managing and administering Clarks River NWR for the next 15 years. The LPP will expand the current acquisition boundary of Clarks River NWR by 34,269 acres, bringing the total refuge acquisition boundary to approximately 53,874 acres. This acquisition will enable us to protect lands along the east and west fork of the Clarks River.

The compatibility determinations for (1) Hunting; (2) fishing; (3) wildlife observation and photography; (4) environmental education and interpretation; (5) nuisance animal control; (6) outdoor recreation including non-motorized boating, walking, hiking, jogging, and bicycling; (7) research and monitoring; (8) horseback riding; and (9) mobility-impaired all-terrain vehicle access are also available in the final CCP/LPP.

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

Approximately 300 copies of the Draft CCP/EA were made available for a 30-day public review period as announced in the Federal Register on February 15, 2012 (77 FR 8890). More than 270 people attended and many submitted comments at three public meetings held to discuss the Draft CCP/EA. A total of 55 respondents submitted written comments on the Draft CCP/EA by mail or email. The Draft CCP/EA identified and evaluated three alternatives for managing the refuge over the next 15 years.

Selected Alternative

After considering the comments we received and based on the professional judgment of the planning team, we selected Alternative B for implementation. Alternative B emphasizes management of the natural resources of Clarks River NWR based on maintaining and improving wetland habitats, monitoring targeted flora and fauna representative of the surrounding Clarks River watershed, and providing quality public use programs and wildlife-dependent recreational activities. Certain targeted species will be managed and monitored in addition to species of Federal responsibility. These species will be chosen based on the criteria that they are indicators of the health of important habitat. Information gaps in our knowledge of the refuge's aquatic species will be addressed.

Restoration efforts, habitat management, forest management, and the prescribed fire program will reflect best management practices determined after examination of historical regimes, soil types and elevation, and the current hydrological system. Management actions will be monitored for effectiveness and adapted to changing conditions and technology. We will develop a Habitat Management Plan to guide future habitat projects and evaluate previous actions.

Public use programs will be improved by offering more facilities and wildlife observation areas. We will monitor public use to determine if there are any negative impacts occurring due to overuse of the resources. Public use programs will be updated to support and teach reasons behind management actions, and to provide quality experiences to visitors. The refuge headquarters will be developed to provide more visitor services, and a new visitor center will be constructed. We will strive for a balanced program of wildlife-dependent recreational activities while protecting wildlife resources. Archaeological resources will be surveyed.

We currently have fee-title ownership of about 8,634 acres, with an approved acquisition boundary of 19,605 acres. Fee-title lands are distributed as follows: Graves County (56 acres), Marshall County (5,970 acres), and McCracken County (2,608 acres). Lands are purchased on a willing-seller basis only. Alternative B includes an acquisition boundary expansion of 34,269 acres, bringing the total refuge acquisition boundary to approximately 53,874 acres that would protect lands along the east and west fork of the Clarks River. Land acquisitions within the existing and expanded acquisition boundaries will be based on importance of the habitat for target management species. We will offer wildlife-dependent public use of refuge wildlife and habitats, as well as demonstrate habitat improvements.

Under Alternative B, our management decisions and actions will support wildlife species and habitats occurring on the refuge based on well-planned strategies and sound scientific judgment. Quality wildlife-dependent recreational uses and environmental education and interpretation programs will be offered to support and explain the natural resources of the refuge.

We will add six new positions to current staffing in order to continue to protect resources, provide visitor services, and attain goals of facilities and equipment maintenance in the future. The biological environment will improve as adaptive and best management practices are utilized. Socioeconomic values should increase as the refuge offers more wildlife-dependent recreational opportunities. The refuge is beneficial to local ecotourism trade and residents searching for natural landscapes and the associated benefits.

Authority

This notice is published under the authority of the National Wildlife Refuge System Improvement Act of 1997 (16 U.S.C. 668dd et seq.).

Dated: July 27, 2012.
Mark J. Musaus,
Acting Regional Director.

Editorial Note: This document was received at the Office of the Federal Register February 25, 2013.

[FR Doc. 2013-04639 Filed 2-27-13; 8:45 am]

BILLING CODE 4310-55-P